DEPARTMENT OF THE INTERIOR

Bureau of Reclamation

[FES 04-53]

Sacramento River Settlement Contractors

AGENCY: Bureau of Reclamation, Interior.

ACTION: Notice of availability of the Final Environmental Impact Statement (EIS).

SUMMARY: Pursuant to the National Environmental Policy Act (NEPA) and the California Environmental Quality Act (CEQA), the Bureau of Reclamation (Reclamation) and the Sacramento River Settlement Contractors (SRSC) have prepared a Final EIS for the Renewal of the Sacramento River Settlement Contracts. The proposed renewal of long-term contracts provides for delivery of water from the Central Valley Project (CVP) to the Sacramento River Settlement Contractors and the diversion of Base Supply water.

A Notice of Availability of the Draft EIS was published in the Federal Register on Friday, October 1, 2004 (69 FR 58947). The comment period on the Draft EIS closed Monday, November 15, 2004. The Final EIS contains responses to all substantive comments received on the Draft EIS and those comments, or summaries thereof. Additional information received during the period was reviewed and responses are provided stating how the information was addressed.

DATES: Reclamation will not make a decision on the proposed action until at least 30 days after release of the Final EIS. After the 30-day waiting period, Reclamation will complete a Record of Decision (ROD). The ROD will state the action that will be implemented and will discuss all factors leading to the decision.

ADDRESSES: A compact disk or a copy of the Final EIS may be requested from Ms. Sammie Cervantes, Public Affairs Office, Bureau of Reclamation, 2800 Cottage Way, Sacramento, CA 95825, at 916-978-5104. The Final EIS and ROD are available online at www.usbr.gov/mp/cvpia/3404c/index.html, scroll to Final EISs.

See SUPPLEMENTARY INFORMATION for locations where copies of the Final EIS are also available.

FOR FUTHER INFORMATION CONTACT: Mr. Buford Holt, Bureau of Reclamation, Northern California Office, 16349 Shasta Dam Blvd., Shasta Lake, CA 96019, at 530-275-1554 or e-mail bholt@mp.usbr.gov.

SUPPLEMENTARY INFORMATION: The CVP was first authorized as a Federal project in 1935 and includes facilities on the Sacramento River. Prior to the authorization of the CVP, individuals and entities along the Sacramento River were diverting water for irrigation and municipal and industrial (M&I) uses under various claims of right. Construction of CVP dams on the Sacramento River and the Trinity River modified the flows of the Sacramento River. To settle controversy over assertions of rights, the United States, acting through the Bureau of Reclamation, negotiated the Settlement Contracts to provide agreement on diversion of the natural flow of the Sacramento River and stored CVP water. Using jointly conducted studies, the parties negotiated to arrive at agreed amounts of Base Supply and Project Water. Base Supply is water the Settlement Contractors divert during the period of April through October each year, free of charge in recognition of their unquantified water rights, which existed prior to the construction of the CVP. In addition, Reclamation agreed to provide the Settlement Contractors with certain designated monthly quantities of CVP water, referred to as Project Water, primarily in the months of July, August, and/or September. Project Water is subject to all requirements of the Federal Reclamation Law, including pricing regulations. Base Supply water is subject only to the provisions of the Settlement Contracts and applicable State law. The term of the initial Sacramento River Settlement contracts was not to exceed 40 years, and the contracts were set to expire on March 31, 2004; however, Congress has granted a 2-year extension of the contracts.

The EIS addresses impacts related to the proposed March 2005 renewal of up to 145 Sacramento River Settlement contracts to continue delivery of supplemental Project Water for agricultural and M&I uses and the renewal of a contract with the Colusa Basin Drain Mutual Water Company for Project Water to replace the drain water that is consumptively used. Water would continue to be delivered through existing CVP facilities, with no new construction required. With the exception of Sutter Mutual Water Company and the Anderson-Cottonwood Irrigation District, the proposed Settlement contracts provide for the continued delivery of the same quantities of Project Water provided for under the expiring Settlement contracts. In addition, the Colusa Basin Drain Mutual Water Company's project water allocation is being reduced from 100,000 to 70,000 acre-feet.

Under the proposed action, the Sacramento River Settlement Contractors would divert up to 1.8 million acre-feet of Base Supply per year from the Sacramento River, and up to 380,000 acre-feet of Project Water per year from the Sacramento River. Twenty of the 145 Settlement Contractors account for approximately 94 percent of the total Settlement contract amount. The proposed contract renewal amounts range in size from 10 to 825,000 acre-feet per year. Contracts would be renewed for a 40-year term. The renewal contracts provide for continued delivery of CVP water to the same lands and for the same purposes of use, with exception of Natomas Central Municipal Water Company which has requested a change from agricultural use to M&I use in the Metro Air Park portion of its service area. The EIS describes and analyzes the effects of the proposed contract renewals on fish resources, vegetation, and wildlife, hydrology, and water quality, recreation, cultural resources, land use, geology and soils, and air quality.

A public hearing was held on Wednesday, October 27, 2004, in Willows, California.

Copies of the Final EIS and ROD are available for public inspection and review at the following locations:

• Bureau of Reclamation, Northern California Area Office, 16349 Shasta Dam Boulevard, Shasta Lake, CA 96019-8400 (Shasta County); telephone 530-275-1554

• Bureau of Reclamation, Mid Pacific Construction Office, 1140 West Wood Street, Willows, CA 95988-0988 (Glenn County); telephone 530-934-7066

• Bureau of Reclamation, 7794 Folsom Dam Road, Folsom, CA 95630; telephone 916-988-1707

• Bureau of Reclamation, Denver Office Library, Building 67, Room 167, Denver Federal Center, 6th and Kipling, Denver, CO 80225; telephone 303-445-2072

• Bureau of Reclamation, Office of Public Affairs, 2800 Cottage Way, Sacramento, CA 95825-1898; telephone 916-978-5100

• Bureau of Reclamation, Red Bluff Field Office, 22500 Altube Road, Red Bluff, CA 96080 (Tehama County); telephone 530-529-3890

• Natural Resources Library, U.S. Department of the Interior, 1849 C Street NW., Main Interior Building, Washington, DC 20240-0001

It is Reclamation's policy to make comments, including names and home addresses of respondents, available for public review. Individual respondents may request that we withhold their home address from public disclosure, which will be honored to the extent allowable by law. There may be circumstances in which a respondent's identity may also be withheld from public disclosure, as allowable by law. If you wish to have your name and/or address withheld, you must state this prominently at the beginning of your comment. All submissions from organizations or businesses, and from individuals identifying themselves as representatives or officials of organizations or businesses, will be made available for public disclosure in their entirety.

Dated: November 29, 2004.
Susan Ramos,
Assistant Regional Director, Mid-Pacific Region.

[FR Doc. 04-27479 Filed 12-15-04; 8:45 am]

BILLING CODE 4310-MN-P